SECURITIES AND EXCHANGE COMMISSION

Proposed Collection; Comment Request

Upon Written Request, Copies Available From: Securities and Exchange Commission, Office of Investor Education and Advocacy, Washington, DC 20549.

Extension:

Rule 17a-4(b)(11); SEC File No. 270-449; OMB Control No. 3235-0506; Rule 17a-3(a)(16).

Notice is hereby given that pursuant to the Paperwork Reduction Act of 1995 (44 U.S.C. Sec. 3501 et seq.), the Securities and Exchange Commission (“Commission”) has submitted to the Office of Management and Budget (“OMB”) a request for approval of extension of the existing collection of information provided for in the following rule: Rule 17a-4(b)(11) (17 CFR 240.17a-4(b)(11)) under the Securities Exchange Act of 1934 (15 U.S.C. 78a et seq.).

Rule 17a-4(b)(11) describes the record preservation requirements for those records required to be kept pursuant to Rule 17a-3(a)(16), including how such records should be kept and for how long, to be used in monitoring compliance with the Commission's financial responsibility program and antifraud and antimanipulative rules as well as other rules and regulations of the Commission and the self-regulatory organizations.

It is estimated that respondents will incur a total burden of 2,835 hours per year (105 respondents multiplied by 27 burden hours to comply with Rule 17a-3(a)(16). It is estimated that approximately 105 active broker-dealer respondents registered with the Commission will incur a total burden of 315 hours per year to comply with Rule 17a-4(b)(11), (105 respondents multiplied by 3 burden hours per respondent equals 315 total burden hours).

The Commission estimates that an employee of a broker-dealer charged to ensure compliance with Rule 17a-3(a)(16) receives annual compensation of $238,000. This compensation is the equivalent of $119 per hour ($238,000 divided by 2,000 payroll hours per year). Thus, the average cost estimated for each respondent would be $3,213:

Rule 17a-3(a)(16); Recordkeeping requirements 27 hours at $119/hr = $3,213.

The Commission estimates that an employee of a broker-dealer charged to ensure compliance with Rule 17a-4(b)(11) receives annual compensation of $238,000. This compensation is the equivalent of $119 per hour ($238,000 divided by 2,000 pay roll hours per year). Thus, the average cost estimated for each respondent would be $357.00:

Rule 17a-4(b)(11); Record preservation requirements 3 hours at $119/hr = $ 357.

Accordingly, the annual aggregated hour burden for each broker-dealer required to comply with Rules 17a-3(a)(16) and 17a-4(b)(11) would be $3,570: ($3,213 + $357 = $3,570).

An agency may not conduct or sponsor, and a person is not required to respond to, a collection of information unless it displays a currently valid control number.

Written comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Consideration will be given to comments and suggestions submitted in writing within 60 days of this publication.

Please direct your written comments to Thomas Bayer, Chief Information Officer, Securities and Exchange Commission, C/O Remi Pavlik-Simon, 6432 General Green Way, Alexandria, VA, 22312 or by sending an e-mail to: PRA_Mailbox@sec.gov.

Dated: November 4, 2010.
Florence E. Harmon,
Deputy Secretary.

[FR Doc. 2010-28543 Filed 11-10-10; 8:45 am]

BILLING CODE 8011-01-P